DEPARTMENT OF AGRICULTURE

Rural Utilities Service

East Kentucky Power Cooperative, Inc., Notice of Intent

AGENCY: Rural Utilities Service, USDA.

ACTION: Notice of intent to hold a public meeting and prepare an environmental assessment.

SUMMARY: Notice is hereby given that the Rural Utilities Service (RUS), pursuant to the National Environmental Policy Act of 1969, the Council on Environmental Quality Regulations for Implementing the National Environmental Policy Act (40 CFR parts 1500-1508), and RUS Environmental Policies and Procedures (7 CFR part 1794), proposes to prepare an Environmental Assessment related to possible financing assistance to East Kentucky Power Cooperative, Inc., related to the construction and operation of two 250 megawatt electric power units.

Meeting Information: RUS and East Kentucky Power Cooperative, Inc., will conduct a public meeting on Thursday, September 6, 2001, from 6:00 p.m. until 8:00 p.m. at the French Quarter Inn, 25 East McDonald Parkway, Maysville, Kentucky.

Government agencies, private organizations, and the public are invited to participate in the planning and analysis of the proposed project. Representatives of RUS and East Kentucky Power Cooperative, Inc., will be available at the public meeting to discuss RUS' environmental review process, describe the project and alternatives under consideration, discuss the scope of environmental issues to be considered, answer questions, and accept oral and written comments. Written comments will be accepted for 30 days after the public scoping meeting.

FOR FURTHER INFORMATION CONTACT: Bob Quigel, Engineering and Environmental Staff, Rural Utilities Service, at (202) 720-0468. Mr. Quigel's E-mail address is bquigel@rus.usda.gov. Information is also available from Bob Hughes of East Kentucky Power Cooperative, Inc., at (859) 744-4812. Mr. Hughes' e-mail address is bobh@ekpc.com.

SUPPLEMENTARY INFORMATION: East Kentucky Power Cooperative, Inc., proposes to add two 250 megawatt coal fired electric generation units at its Spurlock Station located in Mason County, Kentucky, near Maysville. The units will consist of two circulating fluidized bed boilers, two turbine-generators, two baghouses, two dry scrubbers, two selective non-catalytic reduction units, and two 720-foot stacks. The project will include two transmission lines. One of the transmission lines will be 345 kilovolt (kV) from the Spurlock Station to an inter-tie to an existing 345 kV transmission line in Brown County, Ohio. The length of the line will be approximately 3.5 miles with a 150-foot wide right-of-way. This transmission line will cross the Ohio River. The other transmission line will be 138 kV. It will be constructed between the Cranston Distribution Substation and the Rowan County Substation. Its length is approximately 7.5 miles with a 100-foot wide right-of-way. It will be located entirely within Rowan County, Kentucky.

Alternatives considered by RUS and East Kentucky Power Cooperative, Inc., include: (a) No action, (b) purchased power, (c) load management (d) hydro-electric, (e) biomass, (f) geothermal, (g) wind and solar, (h) fuel cells, (i) co-generation, and (j) various site locations.

An alternatives evaluation and siting study for the projects was submitted to RUS by East Kentucky Power Cooperative, Inc. The alternatives evaluation and siting study is available for public review at RUS in Room 2242, 1400 Independence Avenue, SW, Washington, DC, and at the headquarters of East Kentucky Power Cooperative, Inc., 4775 Lexington Road, Winchester, Kentucky. This document will also be available at the Clark County Public Library, 370 South Burns Avenue, Winchester, Kentucky, (859) 744-5661, the Mason County Public Library, 218 East Third Street, Maysville, Kentucky, (606) 564-3286, the Rowan County Public Library, 185 East First Street, Morehead, Kentucky, (606) 784-7137, and the Brown County Public Library, 200 West Grant Avenue, Georgetown, Ohio, (937) 378-3197.

From information provided in the alternatives evaluation and site selection study, input that may be provided by government agencies, private organizations, and the public, East Kentucky Power Cooperative, Inc., will prepare an environmental analysis to be submitted to RUS for review. RUS will use the environmental analysis to determine the significance of the impacts of the projects and may adopt it as its environmental assessment of the projects. RUS” environmental assessment of the project will be available for review and comment for 30 days.

Should RUS determine, based on the environmental assessment of the project, that the impacts of the construction and operation of the project will not have a significant environmental impact, it will prepare a finding of no significant impact. Public notification of a finding of no significant impact will be published in the Federal Register and in newspapers with a circulation in counties where the power plants and transmission line are proposed to be located.

Any final action by RUS related to the proposed project will be subject to, and contingent upon, compliance with environmental review requirements as prescribed by Council on Environmental Quality and RUS environmental policies and procedures.

Dated: August 14, 2001.
Glendon D. Deal,
Acting Director, Engineering and Environmental Staff.

[FR Doc. 01-21068 Filed 8-20-01; 8:45 am]

BILLING CODE 3410-15-P